DEPARTMENT OF JUSTICE

Office of Justice Programs

[OJP (OJP) Docket No. 1759]

Meeting of the Public Safety Officer Medal of Valor Review Board

AGENCY: Office of Justice Programs (OJP), Bureau of Justice Assistance (BJA), Justice.

ACTION: Notice of meeting.

SUMMARY: This is an announcement of a meeting (via WebEx/conference call-in) of the Public Safety Officer Medal of Valor Review Board to consider a range of issues of importance to the Board, to include but not limited to: The MOV Charter renewal; Bylaws; membership/terms; nomination eligibility; the conflict of interest policy and procedures; the pending 2018-2019 MOV nominations, program outreach and marketing efforts; potential updates to the administrative system; and other issues of interest to the Board. The meeting date and time is listed below.

DATES: June 28, 2019, 1:00 p.m. to 2:00 p.m. EDT.

ADDRESSES: This meeting will take place via WebEx/conference call-in. Public access to the meeting will be provided at the Bureau of Justice Assistance, Office of Justice Programs; 810 7th Street NW, Washington, DC 20531. (See SUPPLEMENTARY INFORMATION below for registration requirements.)

FOR FURTHER INFORMATION CONTACT: Gregory Joy, Policy Advisor, Bureau of Justice Assistance, Office of Justice Programs, 810 7th Street NW, Washington, DC 20531, by telephone at (202) 514-1369, toll free (866) 859-2687, or by email at Gregory.joy@usdoj.gov.

SUPPLEMENTARY INFORMATION: The Public Safety Officer Medal of Valor Review Board carries out those advisory functions specified in 42 U.S.C. 15202. Pursuant to 42 U.S.C. 15201, the President of the United States is authorized to award the Public Safety Officer Medal of Valor, the highest national award for valor by a public safety officer.

This meeting/conference call is open to the public at the offices of BJA. For security purposes, members of the public who wish to participate must register at least seven (7) days in advance of the meeting/conference call by contacting Mr. Joy. All interested participants will be required to meet at the Bureau of Justice Assistance, Office of Justice Programs; 810 7th Street NW, Washington, DC 20531, and will be required to sign in at the front desk.

Note: Photo identification will be required for admission. Additional identification documents may be required.

Access to the meeting/conference call will not be allowed without prior registration. Anyone requiring special accommodations should contact Mr. Joy at least seven (7) days in advance of the meeting. Please submit any comments or written statements for consideration by the Review Board in writing at least seven (7) days in advance of the meeting date.

Gregory V. Joy,
Policy Advisor/Designated Federal Officer, Bureau of Justice Assistance.

[FR Doc. 2019-08532 Filed 4-26-19; 8:45 am]

BILLING CODE 4410-18-P